DEPARTMENT OF DEFENSE

Office of the Secretary

Defense Intelligence Agency National Intelligence University Board of Visitors; Notice of Federal Advisory Committee Meeting

AGENCY: Department of Defense, Defense Intelligence Agency, National Intelligence University.

ACTION: Notice of closed meeting.

SUMMARY: The Department of Defense is publishing this notice to announce that the following Federal Advisory Committee meeting of the National Intelligence University Board of Visitors has been scheduled. The meeting is closed to the public.

DATES: Tuesday, January 19, 2016 (7:30 a.m. to 5:00 p.m.) and Wednesday, January 20, 2016 (7:30 a.m. to 1:30 p.m.).

ADDRESSES: Defense Intelligence Agency 7400 Pentagon, ATTN: NIU, Washington, DC 20301-7400.

FOR FURTHER INFORMATION CONTACT: Dr. David R. Ellison, President, DIA National Intelligence University, Washington, DC 20340-5100, Phone: (202) 231-3344.

SUPPLEMENTARY INFORMATION: Due to circumstances beyond the control of the Designated Federal Officer and the Department of Defense, the National Intelligence University Board of Visitors was unable to provide public notification of its meeting of January 19-20, 2016, as required by 41 CFR 102-3.150(a). Accordingly, the Advisory Committee Management Officer for the Department of Defense, pursuant to 41 CFR 102-3.150(b), waives the 15-calendar day notification requirement.

Purpose: The Board will discuss several current critical intelligence issues and advise the Director, DIA, as to the successful accomplishment of the mission assigned to the National Intelligence University.

Agenda: The following topics are listed on the National Intelligence University Board of Visitors meeting agenda: Welcome; Bethesda Campus (Update, Slide Presentation, Risk Assessment); Faculty Senate; Accreditation Update (JPME, Substantive Change; 2018 Decennial Review); Strategic Planning; Strategic Initiatives (Blended Learning, Research Agendas, Marketing); Strategic Guidance Update; College Concentrations; Cyber Data and Analytics; Executive Session; Office of Research; Alumni Association; and Board Business (Honorary Degrees, Meeting Schedule, Succession Planning).

The entire meeting is devoted to the discussion of classified information as defined in 5 U.S.C. 552b(c)(1) and therefore will be closed. Pursuant to 41 CFR 102-3.105(j) and 102-3.140, and section 10(a)(3) of the Federal Advisory Committee Act of 1972, the public or interested organizations may submit written statements to the National Intelligence University Board of Visitors about its mission and functions. Written statements may be submitted at any time or in response to the stated agenda of a planned meeting of the National Intelligence University Board of Visitors. All written statements shall be submitted to the Designated Federal Officer for the National Intelligence University Board of Visitors, and this individual will ensure that the written statements are provided to the membership for their consideration. Contact information for the Designated Federal Officer can be obtained from the GSA's FACA Database— http://www.facadatabase.gov/.

Dated: January 7, 2016.
Aaron Siegel,
Alternate OSD Federal Register Liaison Officer, Department of Defense.

[FR Doc. 2016-00380 Filed 1-11-16; 8:45 am]

BILLING CODE 5001-06-P